DEPARTMENT OF DEFENSE

Department of the Army

[Docket ID: USA-2013-0009]

Privacy Act of 1974; System of Records

AGENCY: Department of the Army, DoD.

ACTION: Notice to add a new System of Records.

SUMMARY: The Department of the Army proposes to add a new system of records in its inventory of record systems subject to the Privacy Act of 1974 (5 U.S.C. 552a), as amended.

DATES: This proposed action will be effective on June 7, 2013 unless comments are received which result in a contrary determination. Comments will be accepted on or before June 6, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army notices for systems of records subject to the Privacy Act of 1974 (5 U.S.C. 552a), as amended, have been published in the Federal Register and are available from the address in FOR FURTHER INFORMATION CONTACT or at http://dpclo.defense.gov/privacy/SORNs/component/army/index.html. The proposed system report, as required by 5 U.S.C. 552a(r) of the Privacy Act of 1974, as amended, was submitted on April 25, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 2, 2013.
Aaron Siegel,
Alternate OSD Federal Register Liaison Officer, Department of Defense.

A0600-8b AHRC

System Name:

Soldiers' Criminal History Files

System Location:

At each Brigade-level or higher Command. Official mailing addresses are published as an appendix to the Army's compilation of systems of records notices.

Categories of individuals covered by the system:

Active duty, National Guard and Reserve commissioned officers, warrant officers and enlisted personnel assigned or projected for assignment to Army units.

Categories of records in the system:

Reports of Soldiers with criminal convictions and investigations included in the report information from witnesses, victims that resulted in founded offenses over the preceding 5-year period and related documentation. Information in the reports includes: Soldier's name, Social Security Number (SSN), rank, aliases, date, location, and description of the offense; case number of the reported offense, Department of the Army Form 4833, Commander's Report of Disciplinary or Administrative Action, Department of the Army Form 3975, Military Police Reports-MPRs, and adjudication of the founded offense as guilty, not guilty or unknown. If a Soldier has no criminal history within the preceding 5-year period, the report will show a negative entry.

Authority for maintenance of the system:

10 U.S.C. 3013, Secretary of the Army; AR 27-10, Military Justice; AR 380-67, Personnel Security Program; AR 600-8, Military Personnel Management; Army Regulation 600-20, Army Command Policy; Army Directive 2013-06, Providing Specific Law Enforcement Information to Commanders of Newly Assigned Soldiers; and E.O. 9397 (SSN), as amended.

Purpose(s):

This system will give Brigade-level or higher commanders an additional tool to help them promote the health, resilience, well-being and readiness of their Soldiers by ensuring command awareness of Soldiers who have engaged in potentially high-risk criminal behaviors. Provides commanders the information they need to take appropriate intervention measures such as referral for counseling, treatment and assistance, as required to mitigate potential risks. Brigade-level or higher Commander may further disclose information from the files only to those with an official need to know.

Routine use of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Policies and practices for storing, retrieving, accessing, retaining, and disposing of records in the system:

Storage:

Paper records and electronic storage media.

Retrievability:

By name, SSN and rank.

Safeguards:

Records are protected by physical security devices, computer hardware and software safeguard features, and restrictions on system access to only those personnel with an official need to know.

Soldiers' Criminal History Files will be sent via authorized government electronic mail with Public Key Infrastructure (PKI) encryption only to the Brigade-level or higher Commander who may further disclose information from the files to those with an official need to know. Personnel with an official need to know include individuals with responsibility for risk assessment and management, such as the chain of command, brigade judge advocate, paralegal noncommissioned officer, and administrative personnel.

Paper records are stored in secure container/file cabinets with access restricted to Brigade-level or higher commanders and personnel with an official need to know.

Retention and disposal:

Soldier's Criminal history reports sent to commanders are deleted or destroyed by shredding after the Soldier departs the unit.

System Managers and Address:

U.S. Army Human Resources Command, Deputy G-3 Operations (HRC-PL), 1600 Spearhead Division Avenue (1-3-021), Ft Knox, KY 40122-5102.

Notification procedure:

Individuals seeking to determine whether information about themselves is contained in this system should address written inquiries to the Brigade-level or higher Commander of the unit to which the Soldier is assigned or the designated representative of the Commander. Official mailing addresses are published as an appendix to the Army's compilation of systems of records notices.

The request should provide their full name, SSN, current address, and sufficient details to permit locating pertinent records.

Record access procedures:

Individuals seeking access to records about themselves contained in this system should address written inquiries to the Brigade-level or higher Commander of the unit to which the Soldier is assigned or the designated representative of the Commander. Official mailing addresses are published as an appendix to the Army's compilation of systems of records notices.

The request should provide their full name, SSN, current address, and sufficient details to permit locating pertinent records.

Contesting record procedures:

The Army's rules for accessing records, and for contesting contents and appealing initial agency determinations are contained in Army Regulation 340-21; 32 CFR part 505; or may be obtained from the system manager.

Record source categories:

Subjects of criminal investigations, witnesses, victims, Military Police and U.S. Army Criminal Investigation Command personnel and special agents, informants, various Department of Defense, federal, state and local investigative and law enforcement agencies, departments or agencies of foreign governments, and any other individuals or organizations that may supply pertinent information.

Exemptions claimed for the system:

None.

[FR Doc. 2013-10769 Filed 5-6-13; 8:45 am]

BILLING CODE 5001-06-P